DEPARTMENT OF HEALTH AND HUMAN SERVICES

Office of the Secretary

Announcement of National Listening Session on Community-Based Alternatives for Individuals With Disabilities

The Department of Health and Human Services, in collaboration with the Departments of Housing and Urban Development, Labor, Education, Justice and the Social Security Administration, is hosting a National Listening Session on Community-Based Alternatives for People with Disabilities to provide an opportunity for public input into each agency's evaluation being conducted under President Bush's Executive Order 13217 on Community-Based Alternatives for People with Disabilities.

Executive Order 13217, signed June 18, 2001, calls upon the federal government to assist states and localities to swiftly implement the decision of the United States Supreme Court in Olmstead v. L.C. and directs the above-named federal agencies to review and evaluate their policies, programs, statutes and regulations to determine whether any should be revised or modified to improve the availability of community-based services for individuals with disabilities. The evaluations must focus on identifying affected populations, improving the flow of information about supports in the community, and removing barriers that impede community placement. The evaluations also must ensure the involvement of consumers, advocacy organizations, providers, and relevant agency representatives. The results of the evaluations must be reported, through the Department of Health and Human Services, to the President by October 16, 2001.

The National Listening Session on Community-Based Alternatives for People with Disabilities will be held on September 5, 2001 from 9:30 a.m. to 5:00 p.m. in the Atrium Ballroom of the Ronald Reagan Building and International Trade Center, 1300 Pennsylvania Avenue, N.W., Washington, D.C. Participants are encouraged to arrive early (no later than 9:15 am).

Information about registration and registration forms are available on line at http://www.hrsnt.com/meeting/newfreedom or call Martrell Kelly at (202) 828-5100. To request a scheduled time slot of up to three minutes to provide testimony during the listening session, register by August 22, 2001. Scheduled time slots will be allocated to ensure representation from a range of stakeholder groups and persons with disabilities and will be filled on a first come, first serve basis. Notification of scheduled time slots will be made approximately two weeks prior to the meeting. In addition to scheduled time slots for testimony, time has been allotted to take public testimony from open microphones at sessions throughout the day. If you are not requesting a scheduled time slot, please submit your registration by August 31, 2001. There are limited funds available to help consumers with travel expenses. To request travel assistance, contact Martrell Kelly at (202) 828-5100 by August 22, 2001.

Purpose: To provide an opportunity for consumers, advocacy organizations, providers and other relevant agency representatives to provide input into federal agency self-evaluations under Executive Order 13217.

Date and Time: September 5, 2001, 9:30 am-5 pm est.

Matters to be Discussed: The agenda will include opening remarks by federal officials, public testimony during scheduled time slots and opportunity for public comment at open microphones.

The public is invited to provide testimony and comment on issues relevant to agency self-evaluations under Executive Order 13217 such as: identification of barriers in federal law, policy and programs that limit the ability of people of any age who have a disability or chronic illness to live in the community; actions that each of the designated agencies can take to address those barriers, improve the flow of information about community supports or aid in fulfillment of the Americans with Disabilities Act; and how federal programs can work together in support of enabling an individual with a disability to participate fully in the social and economic life of the community (e.g., health coverage, mental health services, social services, affordable and accessible housing, employment, caregiver support, and other services).

Dated: August 10, 2001.
Claude A. Allen,
Deputy Secretary.

[FR Doc. 01-20510 Filed 8-10-01; 2:43 pm]

BILLING CODE 4153-01-P